DEPARTMENT OF HEALTH AND HUMAN SERVICES

Administration for Children and Families

Child Care Bureau Research Scholars; Funding Opportunity

Federal Agency Name: Administration for Children and Families (ACF), Administration on Children, Youth, and Families (ACYF), Child Care Bureau (CCB).

Funding Opportunity Title: Child Care Bureau Research Scholars.

Announcement Type: Initial.

Funding Opportunity Number: HHS-2004-ACF-ACYF-YE-0006.

CFDA Number: 93.647.

DATES: The closing date for receipt of applications is June 28, 2004.

SUMMARY: The Administration for Children and Families (ACF), Administration on Children, Youth, and Families (ACYF), Child Care Bureau (CCB) announces the availability of funds to support new Child Care Research Scholar projects in fiscal year 2004. The CCB Research Scholar Grants are designed to increase the number of graduate students conducting dissertation research on child care issues that are consistent with the Bureau's research agenda.

I. Funding Opportunity Description

A. Child Care Bureau

Since its establishment in 1995, the Child Care Bureau (CCB) has been dedicated to enhancing the quality, affordability, and supply of child care available for all families. The Child Care Bureau administers the Child Care and Development Fund (CCDF), a $4.8 billion child care program that includes funding for child care subsidies and activities to improve child care quality and availability. CCDF was created after amendments to ACF child care programs by Title VI of the Personal Responsibility and Work Opportunity Reconciliation Act of 1996 consolidated four Federal child care funding streams, including the Child Care and Development Block Grant, AFDC/JOBS Child Care, Transitional Child Care, and At-Risk Child Care. With related State and Federal funding, CCDF provides more than $11 billion a year to States, territories, and tribes to help low-income, working families access child care.

The Bureau works closely with ACF regions, States, territories, and tribes to facilitate, oversee, and document the implementation of new policies and programs that support State, local, and private sector administration of child care services and systems. In addition, the Bureau collaborates extensively with other offices throughout the Federal government to promote integrated approaches, family-focused services, and coordinated child care delivery systems. In all of these activities, the Bureau strives to support children's healthy growth and development in safe child care environments, promote children's early learning and school readiness, enhance parental choice and involvement in their children's care, and facilitate the linkage of child care with other community services.

B. Child Care Bureau's Research Agenda

Since 2000, Congress has appropriated $10 million per year from the CCDF to be used for child care research and evaluation, and the CCB has used these funds to develop our research agenda. The Bureau's FY 2004 child care research agenda will continue ongoing projects and launch new research initiatives. The CCB's research agenda supports activities that will generate knowledge about child care services and programs and to inform policy decisions and solutions. We intend to improve our capacity to respond to questions of immediate concern to policymakers, strengthen the child care research infrastructure, and increase knowledge about the efficacy of child care policies and programs in providing positive learning and school readiness outcomes for children and employment and self-sufficiency outcomes for parents.

The CCB capacity to further child care related research and data is enhanced by the Child Care Policy Consortium, which is an alliance of research projects sponsored by the CCB. The consortium is comprised of researchers who have partnered with policy organizations, States, and local communities to link research, policy, and practice. The research projects of consortium members are broadly construed. For example, some projects describe State and local child care populations, services, and programs, while others focus on child care subsidy policies and market dynamics. In addition, some projects examine issues surrounding professional development and training approaches for child care providers.

In order to synthesize the broad array of child care information being generated, the Bureau has created the Child Care Research Collaboration and Archive (CCRCA), which serves as the Child Care Bureau's national research knowledge management system for the child care field. The CCRCA consists of an interactive Web site, an archive of data sets and reports, and a technical assistance support system to assist researchers and facilitate collaboration.

C. Purpose & Goals of the CCB Research Scholar Program

The purpose of this grant program is to help develop a national infrastructure for high quality child care research by increasing the number of upcoming researchers investigating child care issues that are consistent with the Bureau's research agenda.

The goals of this program area are as follows:

1. To foster formal mentoring relationships between faculty members and graduate students who are pursuing research in the child care field. Each student will work under the direct supervision of a faculty mentor who ensures that the project will address critical child care issues with a high level of technical quality. This type of student-mentor relationship should be collaborative and foster the skills needed to build the student's career trajectory. The faculty mentor will be listed as the Principal Investigator of the grant and will ensure that all requirements are met and that a high quality dissertation is completed.

2. To support students' graduate training and professional development as researchers engaged in policy-relevant research. Students are expected to become autonomous researchers who are connected to other professionals from diverse backgrounds across a variety of child care roles. Research projects may include independent studies conducted by the student or a well-defined portion of a larger study being conducted by the Principal Investigator holding a faculty position or senior research position and for which the graduate student will have primary responsibility. Research projects must use sound quantitative or qualitative research methodologies or some combination of the two. The student must be the author of the grant proposal.

3. To encourage the active communication, networking, and collaboration among graduate students, their mentors, other prominent child care researchers, and policy makers. Students whose projects involve community-level or administrative-level research are encouraged to work with an additional mentor from the field in order to gain a more comprehensive understanding of child care policies and practices. Students whose work involves secondary analysis of large data sets are encouraged to work closely with one or more senior investigators on the original project. In order to facilitate students' networking with policy makers, students are required to participate in the Child Care Bureau's Annual Meeting of the Child Care Policy Research Consortium and the State Administrators' Meeting.

D. Statutory Authority and Other Citations

Statutory authority: The Child Care and Development Block Grant Act of 1990 as amended (CCDBG Act); section 418 of the Social Security Act.

Code of Federal Domestic Assistance: The Code of Federal Domestic Assistance (CFDA) number is 93.647.

II. Award Information

Funding Instrument Type: Grant.

Anticipated Total Program Funding: $120,000 per year.

Anticipated number of awards: It is anticipated that 4 awards will be made.

Ceiling of Individual Awards: $30,000 per year.

Floor of Individual Award Amounts: None.

Average Projected Award Amount: $30,000 in first year, $20,000 in second year.

Project Periods for Awards: Up to 24 months.

Funding Levels

Pending the availability of funds and receipt of satisfactory applications, grants will be awarded for up to $30,000 for the first 12-month budget period and up to $20,000 for a second year, for a total not exceeding $50,000 for the project period.

All monies must be used for the student's dissertation research, including required personnel costs, travel, and other expenses directly related to the research.

Number of Awards

Three or four dissertation grants will be awarded. No individual educational institution will be funded for more than one candidate unless applications from different universities or colleges do not qualify for support.

Project Period

This announcement is inviting applications for project periods up to two years. Awards, on a competitive basis, will be for a one-year budget period, although project periods may be for two years. Applications for continuation grants funded under this award beyond the one-year budget period but within the two year project period will be entertained in subsequent years on a non-competitive basis, satisfactory progress of the grantee, and a determination that continued funding is in the best interest of the government.

If the student expects to receive a doctorate by the end of the first 12-month budget period, the application should request funding for a single grant period. The need for a two-year project period should be identified in the current application (on SF-424A) and in the project narrative. A subsequent year award for continuation of the project will not be approved if the student has completed his/her dissertation by the end of the 12-month budget period. Scholars are expected to complete their dissertation by the end of the 24 month period.

III. Eligibility Information

III.1. Eligible Applicants

Eligible applicants are institutions of higher education acting on behalf of graduate students who are pursuing a doctorate and who are completing a dissertation on child care issues. The student is expected to have an approved dissertation proposal before the beginning of the grant period. The institution must be fully accredited by one of the regional accrediting commissions recognized by the Department of Education and the Council of Post-Secondary Accreditation.

Faith-based institutions or institutions serving minority populations, including but limited to Tribally Controlled Land Grant Colleges and Universities (TCUs) and Historically Black Colleges and Universities (HBCUs), are also eligible applicants. TCUs are those institutions cited in section 532 of the Equity in Educational Land Grant Status Act of 1994 (7 U.S.C. 301 note), any other institution that qualifies for funding under the Tribally Controlled Community College Assistance Act of 1978, (25 U.S.C. 1801 et seq.), and Navajo Community College, authorized in the Navajo Community College Assistance Act of 1978, Public Law 95-471, title II (25 U.S.C. 640a note). Those TCUs that are not accredited are not eligible to apply under this announcement. HBCUs are defined in the amended version of the Higher Education Act of 1965, codified at 20 U.S.C. 1061(2), are institutions established prior to 1964 whose principle mission was, and is, the education of Black Americans, and must satisfy section 322 of the Higher Education Act of 1965, as amended. Institutions which meet the definition of “Part B institution” in section 322 of the Higher Education Act of 1965, as amended, 20 U.S.C. 1061(2), shall be eligible for assistance under this announcement.

Additional Information on Eligibility

Proof of Non-Profit Status

Any non-profit organization submitting an application must submit proof of its non-profit status at the time of submission (see section IV.2). The non-profit organization can accomplish this by providing (a) a reference to the applicant organization's listing in the Internal Revenue Service's (IRS) most recent list of tax-exempt organizations described in the IRS code; (b) a copy of a currently valid IRS tax exemption certificate; (c) a statement from a State taxing body, State attorney general, or other appropriate State official certifying that the applicant organization has a non-profit status and that none of the net earnings accrue to any private shareholders or individuals; (d) a certified copy of the organization's certificate of incorporation or similar document that clearly establishes non-profit status; (e) any of the items listed above for a State or national parent organization and a statement signed by the parent organization that the applicant organization is a local non-profit affiliate.

Applicants are cautioned that the ceiling for individual awards is $30,000. An application that exceeds the upper value of the dollar range specified will be considered “non-responsive” and will be returned to the applicant without further review.

III.2. Cost Sharing or Matching and Indirect Costs

There are no matching requirements. Because of the small size of these grants and their value to institutions of higher learning as well as to the student scholars, applicants are strongly encouraged to waive any allowable indirect costs in their applications.

III.3. Other

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Applications that fail to follow the required format described in section IV.2 Application Requirements will be considered non-responsive and will not be eligible for funding under this announcement.

IV. Application and Submission Information

IV.1. Address To Request Application Package

This full announcement can be obtained via the following link: http://www.acf.hhs.gov/programs/ccb. If you are unable to download the complete announcement, requests for applications may be sent to: ACYF Operations Center, c/o The Dixon Group, RS/CCB Funding, 118 Q Street, NE., Washington, DC 20002-2132, phone: 800-351-2293, e-mail: CCB@dixongroup.com.

IV.2. Content and Form of Application Submission

Format and Organization. An original and two copies of your application must be submitted. Applicants are strongly encouraged to limit their application to 100 pages, double-spaced, with standard one-inch margins and 12 point fonts. This page limit applies to both narrative text and supporting materials. In addition, applicants should number the pages of their application and include a table of contents.

Applicants are advised to include all required forms and materials and to organize these materials according to the format presented below:

a. Cover Letter.

b. Required Standard Forms:

• Standard Application for Federal Assistance (forms 424 and 424A).

• Applicants requesting financial assistance for a non-construction project must sign and return Standard Form 424B, Assurances: Non-Construction Programs, with their applications.

• Applicants must provide a Certification Regarding Lobbying. Prior to receiving an award in excess of $100,000, applicants shall furnish an executed copy of the lobbying certification. Applicants must sign and return the certification with their application.

• Applicants must make the appropriate certification of compliance with all Federal statutes relating to nondiscrimination. By signing and submitting the application, applicants are providing the certification and need not mail back a certification form.

• Applicants must make the appropriate certification of their compliance with the requirements of the Pro-Children Act of 1994 as outlined in Certification Regarding Environment Tobacco Smoke.

c. Table of Contents.

d. Project Narrative Statement.

e. Appendix.

Complete Contact Information for Student and Faculty Advisor.

Curriculum Vitae for Student and Faculty Advisor.

Letter of Support from Advisor.

Official Transcript of Student Reflecting Graduate Courses.

Private, non-profit organizations are encouraged to submit, with their applications, the optional survey located under “Grant Manuals & Forms” at: http://www.acf.hhs.gov/programs/ofs/forms.htm.

You may submit your application to us in either electronic or paper format. To submit an application electronically, please use the http://www.grants.gov apply site. If you use Grants.gov, you will be able to download a copy of the application package, complete it off-line, and then upload and submit the application via the Grants.gov site. You may not email an electronic copy of a grant application.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgment from Grants.gov that contains a Grants.gov tracking number. The Administration for Children and Families will retrieve your application from Grants.gov and send you a second confirmation, which will include an ACF tracking number.

• We may request that you provide original signatures on forms at a later date.

• You may access the electronic application for this program on http://www.Grants.gov.

You may search for the downloadable application package by the CFDA number.

Content of Project Narrative Statement: The project narrative statement contains most of the information on which applications will be competitively reviewed. The project narrative should be carefully developed in accordance with the Bureau's research goals and agenda, the requirements listed in the Uniform Project Description (section V.A), and the evaluation criteria (section V.B).

The following sections from the Uniform Project Description are included as part of the project narrative statement:

a. Project Summary Abstract.

b. Objectives and Need for Assistance.

c. Approach—Research Design and Methodology.

d. Approach—Management Plan.

e. Staff and Position Data.

f. Budget and Budget Justification.

IV.3. Submission Dates and Times

The closing time and date for receipt of applications is 4:30 p.m. eastern standard time (e.s.t.) on June 28, 2004. Mailed applications received after the closing date will be classified as late. Handcarried applications received after 4:30 p.m. on the closing date will be classified as late.

Deadline: Mailed applications shall be considered as meeting an announced deadline if they are received on or before the deadline date at: ACYF Operations Center, c/o the Dixon Group, Inc., RS/CCB Funding, 118 Q Street, NE., Washington, DC 20002-2132.

Applications handcarried by applicants, applicant couriers, other representatives of the applicant, or by overnight/express mail couriers shall be considered as meeting an announced deadline if they are received on or before the deadline date, between the hours of 8 a.m. and 4:30 p.m., e.s.t., Monday through Friday (excluding Federal holidays), at: ACYF Operations Center, c/o the Dixon Group, RS/CCB Funding, 118 Q Street, NE., Washington, DC 20002-2132. Phone: 800-351-2293, Email: CCB@dixongroup.com. The address must appear on the envelope/package containing the application with the note “Attention: The Dixon Group.” Applicants are cautioned that express/overnight mail services do not always deliver as agreed. ACYF cannot accept applications by fax. Applicants will receive a confirmation postcard upon receipt of applications.

Notice of Intent To Submit Application: If you intend to submit an application, please e-mail the ACYF Operations Center and include the following information: the number and title of this announcement, your organization's name and address, and your contact person's name, title, phone number, fax number, and e-mail address. This notice is not required but is strongly encouraged. The information will be used to determine the number of expert reviewers needed to evaluate applications and to update the mailing list for future program announcements.

Applicants are cautioned that express/overnight mail services do not always deliver as agreed.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. Determination to extend or waive deadline requirements rest with the Chief Grants Management Officer.

The table below details when the materials need to be submitted and where these forms or formatting descriptions can be found.

What to submit | Required content | Required form or format | When to submit
Standard Application for Federal Assistance (forms SF 424, 424A, and 424B) | Per required form | May be found at http://acf.hhs.gov/programs/ofs/forms.htm | By application due date.
Certification regarding Lobbying and associated Disclosure of Lobbying Activities (SF LLL) | Per required form | May be found at http://acf.hhs.gov/programs/ofs/forms.htm | By application due date.
Environmental Tobacco Smoke Certification | Per required form | May be found at http://acf.hhs.gov/programs/ofs/forms.htm | By application due date.
Protection of Human Subjects | Per required form | May be found at http://acf.hhs.gov/programs/ofs/forms.htm | By application due date.
Proof of Non-Profit Status | See Section III.B | May be found at http://acf.hhs.gov/programs/ofs/forms.htm | By application due date.
Project Narrative Statement | See Section IV.C and Section V.A and V.B | Format described in Section IV.C and V.A. and V.B | By application due date.
Contact Information, Vita, Letter of Support, Transcript | See Section and IV.B and IV.G | Format described in Section IV.B and IV.G | By application due date.

Additional Forms: Private-non-profit organizations may submit with their applications the voluntary survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

IV.4. Intergovernmental Review

This program is covered under Executive Order 12372, “Intergovernmental Review of Federal Programs,” and 45 CFR part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by federally-recognized Indian tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington, Wyoming, and Palau.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

IV.5. Funding Restrictions

Transferability. Grants awarded as a result of this competition are not transferable to another student or to another institution. Awards can not be divided among two or more students.

Concurrent Awards. A CCB research scholar grant may not be held concurrently with another federally funded dissertation grant or fellowship.

IV.6. Other Submission Requirements

Contact information for both the graduate student and the student's faculty mentor is required and should be included in the Appendix.

The application must include a letter from the faculty mentor stating that he/she approves the application and describing how he/she will regularly monitor the student's work. In addition, the letter must verify (a) the student's status in the doctoral program, (b) that the grant will be used to fund the student's dissertation research, and (c) that the student is within two years or less of completing his/her dissertation. This letter should be included in the Appendix.

In the Appendix the student must include an official transcript reflecting his/her completed graduate course work.

Electronic Submission: To submit an application electronically, please use the http://www.Grants.gov apply site. For complete details on how to submit electronically, please refer to section IV.2. Content and Form of Application Submission.

V. Application Review Information

V.1. Criteria

Paperwork Reduction Act of 1995 (Pub. L. 104-13): Public reporting for this collection of information is estimated to average 15 hours for the Child Care Research Scholars, including time for reviewing instructions, gathering and maintaining the data needed, and reviewing the collection of information.

The project description is approved under OMB Control number 0970-0139 which expires 03/31/04 (currently under review at OMB). An agency may not conduct or sponsor a collection of information unless it displays a valid OMB control number. In addition, a person is not required to respond to a collection of information unless it displays a valid OMB control number.

Instructions: ACF Uniform Project Description (UPD). The following are instructions and guidelines on how to prepare the “project summary/abstract” and “Full Project Description” sections of the application. Under the evaluation criteria section, note that each criterion is preceded by the generic evaluation requirement under the ACF Uniform Project Description (UPD). The UPD was approved by the Office of Management and Budget (OMB), Control Number 0970-0139, expiration date 03/31/04. The generic UPD requirement is followed by the evaluation criterion specific to this announcement.

The Project Description Overview. The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions. ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix. Pages should be numbered and a table of contents should be included for easy reference.

Instructions for Preparing a Full Project Description.

1. Project Summary Abstract

Provide a summary of the project description (a page or less) with reference to the funding request.

2. Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/ footnotes. Incorporate demographic data and participant/ beneficiary information, as needed.

In developing the project description, the applicant may volunteer or be requested to provide information on the total range of projects currently being conducted and supported (or to be initiated), some of which may be outside the scope of the program announcement.

3. Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

4. Additional Information

Following are requests for additional information that need to be included in the application:

a. Staff and Position Data

Provide a biographical sketch for each key person appointed and a job description for each vacant key position. A biographical sketch will also be required for new key staff as appointed.

b. Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

5. General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: First column, object class categories; second column, Federal budget; next column(s), non-Federal budget(s), and last column, total budget. The budget justification should be a narrative.

a. Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

b. Fringe Benefits

Description: Costs of employee fringe benefits unless treated as part of an approved indirect cost rate.

Justification: Provide a breakdown of the amounts and percentages that comprise fringe benefit costs such as health insurance, FICA, retirement insurance, taxes, etc.

c. Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

d. Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

e. Supplies

Description: Costs of all tangible personal property other than that included under the Equipment category.

Justification: Specify general categories of supplies and their costs. Show computations and provide other information which supports the amount requested.

f. Other

Description: Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

g. Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Evaluation Criteria: Eligible applications will be scored competitively against the evaluation criteria. These criteria will be used in conjunction with the other expectations and requirements set forth in this announcement to evaluate how well each proposal addresses the bureau's research agenda and the program goals.

Criterion 1: Objectives and Need for Assistance (35 Point Maximum)

The extent to which the application reflects a solid understanding of (a) critical issues, information needs, and research issues of the child care field, (b) the child care subsidy system and TANF, and (c) low-income working families from various cultural, language, and ethnic groups.

The extent to which the conceptual model, objectives and hypotheses are (a) well formulated and appropriately linked, (b) reflect the bureau's research agenda and goals, and (c) will contribute new knowledge to the field.

The effectiveness with which the application articulates the current state of knowledge on (a) the interplay among child care and other early care and education programs, (b) child care and children's development and well-being, or (c) child care and family self-sufficiency.

Criterion 2: Approach—Research Design and Methodology (35 Point Maximum)

The extent to which the proposed research design (a) appropriately links research issues, questions, variables, data sources, samples, and analyses (b) employs technically sound and appropriate approaches, design elements and procedures, and sampling techniques.

The extent to which the proposed design (a) reflects sensitivity to technical, logistical, and ethical issues that may arise (b) and includes realistic strategies for the resolution of difficulties.

The extent to which the researchers assure (a) adequate protection of human subjects, confidentiality of data, and consent procedures, as appropriate.

The extent to which the research design (a) specifies the measures to be used and their psychometric properties, (b) describes how these measures have been used to address the proposed research questions, and (c) describes how these measures have been used with the low-income, diverse population to be studied.

Criterion 3: Approach—Management Plan (Maximum of 10 Points)

The extent to which the application includes a management plan that (a) presents a sound framework for maintaining quality control over the implementation and ongoing operations of the study, (b) demonstrates how the researcher will gain access to necessary organizations, participants, and data sources, and (c) details how the mentor will actively facilitate this plan.

The extent to which the scope of the project is reasonable for the funds available and feasible for the time frame specified (d) includes an effective plan for the dissemination and utilization of information by researchers, policymakers, and practitioners in the field.

Criterion 4: Staff and Position Data (Maximum of 10 Points)

The extent to which the student and his/her mentor (a) demonstrate competence in the areas addressed by the proposed research, including relevant background, experience, and training on related research or similar projects, (b) demonstrate expertise in research design, sampling, field work, data processing, statistical analysis, reporting, and information dissemination to academic and policy communities, (c) reflect an understanding of the child care subsidy system and the child care needs of low-income families and the complexities of conducting research within that system and the diverse cultural, language, and ethnic population it serves.

Criterion 5: Budget and Budget Justification (Maximum of 10 Points)

The extent to which the proposed project costs (a) are reasonable, appropriately allocated, and sufficient to accomplish the objectives, research design, and dissemination plan (b) include funds for the student, and his/her mentor if applicable, to participate in the Child Care Bureau's Annual Meeting of the Child Care Policy Research Consortium and the State Administrators' Meeting in Washington, DC, and (c) are justified according to the needs and objectives of carrying out the proposed project.

V.2. Review and Selection Process

Application Process. This announcement includes all of the information needed to apply for funding. Detailed instructions for preparing and submitting applications are described. Applicants are advised to follow the prescribed content and format in preparing their applications.

Applicants are also advised to adhere to the guidelines describing the preparation of their Project Narrative Statement. This section of the proposal details the applicant's need for assistance, research design and methodology, management plan, staff and position data, and budget. It thus contains most of the information on which applications will be competitively reviewed. The Project Narrative Statement will be evaluated according to the evaluation criteria (section V.B) and the Uniform Project Description (section V.A).

Application, Review, Selection, and Award. Each application will be screened to determine whether the applicant institution is eligible. Applications from ineligible institutions will be excluded from the review.

a. The review will be conducted in Washington, DC. Expert reviewers may include researchers, Federal or State staff, child care administrators, or other individuals experienced in child care research and evaluation. A panel of at least three reviewers will evaluate each application to determine the strengths and weaknesses of the proposal in terms of the Bureau's research goals and expectations, its fit with the bureau's research agenda, and the evaluation criteria.

b. Given the involvement of non-Federal reviewers, applicants have the option of omitting from the application copies (but not the original) specific salary rates or amounts for individuals specified in the budget and individuals' Social Security Numbers. If the applicant omits individual salary information on the application copies, the copies must include summary salary information.

c. Panelists will provide written comments and assign numerical scores for each application. The assigned scores for each criterion will be summed to yield a total evaluation score for the proposal.

d. In addition to the panel review, the Child Care Bureau may solicit comments from other Federal offices and agencies, States, non-governmental organizations, and individuals whose particular expertise is identified as necessary for the consideration of technical issues arising during the review. The Bureau will consider their comments, along with those of the panelists, when making funding decisions. The Bureau will also take into account the best combination of proposed projects to meet its overall research goals.

e. The ACYF Commissioner will make the final selection of the applicants to be funded. Applications may be funded in whole or in part depending on: (1) The rank order of applicants resulting from the competitive review, (2) staff review and consultations, (3) the combination of projects that best meets the bureau's research objectives, (4) the funds available; and (5) other relevant considerations.

VI. Award Administration Information

VI.1. Award Notices

Successful applicants will be notified via a notice of award signed by the grants officer which will document the funding level, terms and conditions of the award, reporting requirements, effective date of the award, budget period for which support is given, and the total project period for which support is provided.

VI.2. Administrative and National Policy Requirements

45 CFR parts 74 and 92.

Conference Attendance. The student must attend and present a poster at the Annual Meeting of the Child Care Policy Research Consortium and pre-conference each year of the grant. This conference is typically scheduled during the spring of each year. In addition, the student must attend and present at the State Administrators' Meeting typically held in the summer of each year. The budget should reflect travel funds for both conferences. Faculty advisors are strongly encouraged to attend these conferences as well.

Archiving and Publishing. The student must agree to archive his/her approved dissertation document with the Child Care Research and Collaboration Archive (CCRCA). The student must also work with Child Care Bureau staff and CCRCA staff to publish a research/policy brief that can be published on the CCRCA Web site.

VI.3. Reporting Requirements

Programmatic Reports: All grantees will be required to submit semi-annual progress reports that describe major accomplishments during the previous six months, plans for the next six months, problems or difficulties encountered and plans for their resolution, significant research findings, and dissemination activities. The final report is due 90 days after the end of the grant period.

Financial Reports: Grantees will also be required to submit semi-annual fiscal reports on the Standard Federal Form 269 (long version). A final report documenting the project activities and results will be due 90 days after the end of the grant period.

VII. Agency Contacts

Application Process Contact: ACYF Operations Center, c/o the Dixon Group, RS/CCB Funding, 118 Q Street, NE., Washington, DC 20002-2132; phone: 800-351-2293, e-mail: CCB@dixongroup.com.

Program Office Contact: Dr. Stephanie Curenton, Child Care Bureau Policy and Research Division, Child Care Bureau, 330 C Street, SW., Washington, DC 20447; phone: (202) 205-9899, e-mail: scurenton@acf.hhs.gov.

Grants Management Office Contact: William Wilson, Grants Management Officer, 330 C Street, SW., Switzer Bldg, Room 2070, Washington DC 20447; phone: (202) 205-8913, e-mail: wwilson@acf.hhs.gov.

VIII. Other

None.

Dated: April 7, 2004.
Frank Fuentes,
Deputy Commissioner, Administration for Children, Youth and Families.

[FR Doc. 04-9545 Filed 4-26-04; 8:45 am]

BILLING CODE 4184-01-P